DEPARTMENT OF ENERGY

Federal Energy Regulatory Commission

Notice of Attendance at PJM Interconnection, L.L.C. Meetings

The Federal Energy Regulatory Commission (Commission) hereby gives notice that members of the Commission and Commission staff may attend upcoming PJM Interconnection, L.L.C. (PJM) Members Committee and Markets and Reliability Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM Web site.

PJM Members Committee

• April 24, 2014 (Wilmington, DE).

• May 15, 2014 (Hyatt Regency Hotel, Cambridge, MD).

• June 26, 2014 (Wilmington, DE).

• July 31, 2014 (Wilmington, DE).

• September 18, 2014 (Wilmington, DE).

• October 30, 2014 (Wilmington, DE).

• November 20, 2014 (Wilmington, DE).

PJM Markets and Reliability Committee

• April 24, 2014 (Wilmington, DE).

• May 29, 2014 (Wilmington, DE).

• June 26, 2014 (Wilmington, DE).

• July 31, 2014 (Wilmington, DE).

• August 28, 2014 (Wilmington, DE).

• September 18, 2014 (Wilmington, DE).

• October 30, 2014 (Wilmington, DE).

• November 20, 2014 (Wilmington, DE).

• December 18, 2014 (Wilmington, DE).

PJM Market Implementation Committee

• April 9, 2014 (Norristown, PA).

• May 7, 2014 (Norristown, PA).

• June 6, 2014 (Norristown, PA).

• July 7, 2014 (Norristown, PA).

• August 8, 2014 (Norristown, PA).

• September 3, 2014 (Norristown, PA).

• October 8, 2014 (Norristown, PA).

• November 5, 2014 (Norristown, PA).

• December 3, 2014 (Norristown, PA).

The discussions at each of the meetings described above may address matters at issue in pending proceedings before the Commission, including the following currently pending proceedings:

Docket No. EL05-121, PJM Interconnection, L.L.C.

Docket No. EL08-14, Black Oak Energy LLC, et al., v. FERC.

Docket No. ER09-1148, PPL Electric Utilities Corporation.

Docket No. ER09-1256, Potomac-Appalachian Transmission Highline, L.L.C..

Docket Nos. ER09-1589 and EL10-6, FirstEnergy Service Company.

Docket No. EL10-52, Central Transmission, L.L.C. v. PJM Interconnection, L.L.C..

Docket No. ER11-1844, Midwest Independent Transmission System Operator, Inc.

Docket No. AD12-1 and ER11-4081, Midwest Independent Transmission System Operator, Inc.

Docket No. AD12-16, Capacity Deliverability Across the Midwest Independent Transmission System Operator, Inc./PJM Interconnection, L.L.C. Seam.

Docket No. EL12-54, Viridity Energy, Inc. v. PJM Interconnection, L.L.C.

Docket No. ER12-91, PJM Interconnection, L.L.C.

Docket No. ER12-92, PJM Interconnection, L.L.C., et al.

Docket No. ER12-1901, GenOn Power Midwest, LP

Docket No. ER12-2399, PJM Interconnection, L.L.C.

Docket No. ER12-2708, PJM Interconnection, L.L.C.

Docket No. EL13-47, FirstEnergy Solutions Corporation v. PJM Interconnection, L.L.C. et al.

Docket No. ER13-90, Public Service Electric and Gas Company and PJM Interconnection, L.L.C.

Docket No. ER13-195, Indicated PJM Transmission Owners.

Docket No. ER13-198, PJM Interconnection, L.L.C.

Docket No. ER13-535, PJM Interconnection, L.L.C.

Docket No. ER13-1654, PJM Interconnection, L.L.C.

Docket No. ER13-1924, PJM Interconnection, L.L.C.

Docket No. ER13-1926, PJM Interconnection, L.L.C.

Docket No. ER13-1927, PJM Interconnection, L.L.C.

Docket No. ER13-1936, PJM Interconnection, L.L.C.

Docket No. ER13-1944, PJM Interconnection, L.L.C.

Docket No. ER13-1947, PJM Interconnection, L.L.C.

Docket No. ER14-456, PJM Interconnection, L.L.C.

Docket No. ER14-503, PJM Interconnection, L.L.C.

Docket No. ER14-381, PJM Interconnection, L.L.C.

Docket No. ER14-822, PJM Interconnection, L.L.C.

Docket No. ER14-1144, PJM Interconnection, L.L.C.

Docket No. ER14-1145, PJM Interconnection, L.L.C.

Docket No. ER14-1207, Keys Energy Center, L.L.C.

Docket No. ER14-1221, PJM Interconnection, L.L.C.

Docket No. ER14-1461, PJM Interconnection, L.L.C.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: April 8, 2014.
Kimberly D. Bose,
Secretary.

[FR Doc. 2014-08405 Filed 4-14-14; 8:45 am]

BILLING CODE 6717-01-P